DEPARTMENT OF HEALTH AND HUMAN SERVICES

[Document Identifier: HHS-OS-21329-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for revision of the approved information collection assigned OMB control number 0937-0198, scheduled to expire on June 30, 2015. Comments submitted during the first public review of this ICR will be provided to OMB. OMB will accept further comments from the public on this ICR during the review and approval period.

DATES: Comments on the ICR must be received on or before April 21, 2014.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the document identifier HHS-OS-21329-30D for reference.

Information Collection Request Title: Public Health Service Policies on Research Misconduct (42 CFR part 93).

OMB No.: 0937-0198.

Abstract: This is a revision to a currently approved collection, Public Health Service Policies on Research Misconduct. The revision will include an additional form, called the Assurance of Compliance by Sub-Award Recipients form PHS-6315. The purpose of this form is to establish an assurance of compliance for a sub-award institution. The sub-awardee is also required to provide data from on the amount of research misconduct activity occurring in institutions conducting PHS supported research. Therefore, in addition this provides an annual assurance that the sub-award institution has established and will follow administrative policies and procedures for responding to allegations of research misconduct that comply with the Public Health Service (PHS) Policies on Research Misconduct (42 CFR part 93). Research misconduct is defined as receipt of an allegation of research misconduct and/or the conduct of an inquiry and/or investigation into such allegations. These data enable the ORI to monitor institutional sub-awardee's compliance with the PHS regulation.

Need and Proposed Use of the Information: Public Health Service Polices on Research Misconduct (42 CFR part 93)—OMB No 0937-0198-Revision—Office of Research Integrity. An additional form (6315 PHS Sub-ward recipient) has been added. Likely Respondents: Public Health Service (PHS) research sub-award recipient. Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Estimated Annualized Burden Table
Forms (if necessary) | Type of respondent | Number of respondents | Number of responses per respondent | Average burden hours per response | Total burden hours
PHS-6349 | Awardee Institutions | 6,096 | 1 | 10/60 | 1,016
PHS-6315 | Sub-award Institution's | 200 | 1 | 5/60 | 17
Total |  |  |  |  | 1,033

Darius Taylor,
Deputy Information Collection Clearance Officer.

[FR Doc. 2014-06145 Filed 3-20-14; 8:45 am]

BILLING CODE 4150-28-P